COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products to the Procurement List that will be furnished by nonprofit agencies employing persons who are blind or have other severe disabilities, and deletes products and a service previously furnished by such agencies.

DATES: Comments must be received on or before: 10/5/2015.

ADDRESSES: Committee for Purchase from People Who Are Blind or Severely Disabled, 1401 S. Clark Street, Suite 715, Arlington, Virginia 22202-4149.

For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN(s)—Product Name(s):

4510-00-NIB-0045—Purell-Skilcraft ADX 1200 ml Dispenser Manual Pump

4510-00-NIB-0131—Purell Skilcraft LTX 1200 ml Dispenser Hands Free

8520-00-NIB-0134—Purell Instant Hand Sanitizer, Green-Certified, 8 oz. Bottle—Purell Instant 8520-00-NIB-0135—Hand Sanitizer, Green-Certified, 12 oz. Bottle

8520-00-NIB-0141—Instant Hand Sanitizer, Alcohol-Free, 535 ml Pump Bottle

8520-00-NIB-0142—Instant Hand Sanitizer, Alcohol-Free, 45 ml Pump Bottle

8520-00-NIB-0143—Instant Hand Sanitizer, Alcohol-Free, 1200 ml LTX Cartridge Refill

8520-00-NIB-0144—Instant Hand Sanitizer, Alcohol-Free, 1200 ml ADX Cartridge Refill

Mandatory Source of Supply: Austin Lighthouse, Austin, TX

Mandatory Purchase For: 100% of the requirement of the Department of Homeland Security

Contracting Activity: Department of Homeland Security, Office of Procurement Operations

Distribution: C-List

NSN(s)—Product Name(s): 8415-01-644-9620—Gaiter, Fire Resistant Environmental Ensemble (FREE), Army, Army Tan

Mandatory Source of Supply: NYSARC, Inc., Seneca-Cayuga Counties Chapter, Waterloo, NY

Mandatory Purchase For: 100% of the requirement of the U.S. Army

Contracting Activity: Dept of the Army, W6QK ACC-APG Natick

Distribution: C-List

Deletions

The following products and service are proposed for deletion from the Procurement List:

Products

USMC Sun Hats:

8415-01-485-6637—Woodland with Logo

8415-01-485-6713—Woodland with Logo

8415-01-485-6750—Woodland with Logo

8415-01-485-6755—Woodland with Logo

8415-01-485-6757—Woodland with Logo

8415-01-485-6760—Woodland with Logo

8415-01-485-6771—Woodland with Logo

8415-01-485-6777—Woodland with Logo

8415-01-485-8131—Desert with Logo

8415-01-485-8134—Desert with Logo

8415-01-485-8137—Desert with Logo

8415-01-485-8138—Desert with Logo

8415-01-485-8140—Desert with Logo

8415-01-485-8143—Desert with Logo

8415-01-485-8144—Desert with Logo

8415-01-485-8145—Desert with Logo

8415-00-NSH-1100—Desert without Logo

8415-00-NSH-1101—Desert without Logo

8415-00-NSH-1102—Desert without Logo

8415-00-NSH-1103—Desert without Logo

8415-00-NSH-1104—Desert without Logo

8415-00-NSH-1105—Desert without Logo

8415-00-NSH-1106—Desert without Logo

8415-00-NSH-1107—Desert without Logo

8415-00-NSH-1108—Desert without Logo

8415-00-NSH-1109—Desert without Logo

8415-00-NSH-1110—Desert without Logo

8415-00-NSH-1112—Desert without Logo

8415-00-NSH-1113—Desert without Logo

8415-00-NSH-1114—Desert without Logo

8415-00-NSH-1115—Woodland without Logo

8415-00-NSH-1116—Woodland without Logo

8415-00-NSH-1117—Woodland without Logo

8415-00-NSH-1118—Woodland without Logo

8415-00-NSH-1119—Woodland without Logo

8415-00-NSH-1120—Woodland without Logo

8415-00-NSH-1121—Woodland without Logo

8415-00-NSH-1122—Woodland without Logo

8415-00-NSH-1123—Woodland without Logo

8415-00-NSH-1124—Woodland without Logo

8415-00-NSH-1125—Woodland without Logo

8415-00-NSH-1126—Woodland without Logo

8415-00-NSH-1127—Woodland without Logo

8415-00-NSH-1128—Woodland without Logo

Mandatory Source of Supply: Southeastern Kentucky Rehabilitation Industries, Inc., Corbin, KY

Contracting Activity: W6QK ACC-APG Natick

Service

Service Type: Warehousing Service

Mandatory For: Barbers Point Naval Air Station Barbers Point, HI

Mandatory Source of Supply: Trace, Inc., Boise, ID

Contracting Activity: Defense Commissary Agency

Barry S. Lineback,
Director, Business Operations.

[FR Doc. 2015-22004 Filed 9-3-15; 8:45 am]

BILLING CODE 6353-01-P